DEPARTMENT OF HEALTH AND HUMAN SERVICES

Performance Review Board Members

Title 5, U.S.C. Section 4314(c)(4) of the Civil Service Reform Act of 1978, Public Law 95-454, requires that the appointment of Performance Review Board Members be published in the Federal Register.

The following persons may be named to serve on the Performance Review Boards or Panels, which oversee the evaluation of performance appraisals of Senior Executive Service members of the Department of Health and Human Services.

Employee last name | Employee first name
Downing | Gregory
Foster | Robert
Gabriel | Edward
Gentile | John
Gibson | Ventris
Gill | John
Gracia | Nadine
Gunderson | Nancy
Haseltine | Amy
McCabe | William
McDaniel | Eileen
Novy | Steve
Potts | Oliver
Seshamani | Meena
Teti | Catherine
Weber | Mark
Ziegler-Ragland | Cheryl

Date: November 14, 2014.
John W. Gill,
Deputy Assistant Secretary for Human Resources.

[FR Doc. 2014-27405 Filed 11-17-14; 11:15 am]

BILLING CODE 4151-17-P